DEPARTMENT OF HEALTH AND HUMAN SERVICES

National Institutes of Health

Prospective Grant of Exclusive License: Nitroxides as Protectors Against Oxidative Stress and in the Prophylactic and Therapeutic Treatment of Aging, Obesity and Cancer

AGENCY: National Institutes of Health, Public Health Service, DHHS

ACTION: Notice.

SUMMARY: This is notice, in accordance with 35 U.S.C. 209(c)(1) and 37 CFR 404.7(a)(1)(i), that the National Institutes of Health (NIH), Department of Health and Human Services, is contemplating the grant of an exclusive license worldwide to practice the invention embodied in: U.S. Patent Application Serial No. 07/494,532, filed March 16, 1990, entitled “Nitroxide as Protectors Against Oxidative Stress” and U.S. Patent Application Serial No. 60/047,724 filed May 27, 1997 entitled,“ The use of Nitroxides in the prophylactic and therapeutic treatment of cancer due to genetic defects” and corresponding foreign patent applications to Mitos, Inc., having a place of business in San Diego, California. The patent rights in these inventions have been assigned to the United States of America.

The contemplated exclusive license may be limited to the use compounds and methods disclosed and claimed in the invention for the prevention and treatment of obesity, cancer and the amelioration of the direct effects of aging.

DATES: Only written comments and/or applications for a license which are received by the NIH Office of Technology Transfer on or before May 8, 2000, will be considered.

ADDRESSES: Requests for a copy of the patent application, inquires, comments and other materials relating to the contemplated license should be directed to: Norbert J. Pontzer, J.D., Ph.D., Technology Licensing Specialist, Office of Technology Transfer, National Institutes of Health, 6011 Executive Boulevard, Suite 325, Rockville, MD 20852-3804; Telephone: (301) 496-7736, ext. 284; Facsimile: (301) 402-0220; E-mail: np59n@nih.gov. A signed Confidential Disclosure Agreement will be required to receive copies of the patent application.

SUPPLEMENTARY INFORMATION: New metal-independent nitroxide compounds are anti-oxidants capable of protecting cells, tissues, and organs against the harmful effects of toxic oxygen related species (hydroxyl radical, hydrogen peroxide, superoxide). The toxic oxygen related species have been implicated in cancer and aging. These nitroxides slow the death rate in experimental animals with cancers caused by deletion of the p53 suppressor gene. These nitroxides also cause weight loss in mice with no apparent toxicity.

The prospective exclusive license will be royalty-bearing and will comply with the terms and conditions of 35 U.S.C. 209 and 37 CFR 404.7. The prospective exclusive license may be granted unless, within 90 days from the date of this published Notice, NIH receives written evidence and argument that establishes that the grant of the license would not be consistent with the requirements of 35 U.S.C. 209 and 37 CFR 404.7.

Properly filed competing applications for a license filed in response to this notice will be treated as objections to the contemplated license. Comments and objections submitted in response to this notice will not be made available for public inspection, and, to the extent permitted by law, will not be released under the Freedom of Information Act, 5 U.S.C. 552.

Dated: January 31, 2000.
Jack Spiegel,
Director, Division of Technology Development and Transfer, Office of Technology Transfer.

[FR Doc. 00-2631 Filed 2-4-00; 8:45 am]

BILLING CODE 4140-01-M